DEPARTMENT OF COMMERCE

National Oceanic and Atmospheric Administration

RIN 0648-XD074

Western Pacific Fishery Management Council; Public Meeting

AGENCY: National Marine Fisheries Service (NMFS), National Oceanic and Atmospheric Administration (NOAA), Commerce.

ACTION: Notice of public meeting.

SUMMARY: The Western Pacific Fishery Management Council (Council) will hold the First Meeting of its Protected Species Advisory Committee (PSAC) in Honolulu, HI.

DATES: The PSAC meeting will be held on Tuesday, January 28, 2014, from 9 a.m. to 5 p.m. and Wednesday, January 29, 2014, from 8:30 a.m. to 12 noon.

ADDRESSES: The meeting will be held at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: The PSAC will review current and emerging protected species issues related to federal fisheries management as well as the Council's 5-year Program Plan and Research Priorities. The Committee may make recommendations on these topics.

Agenda

9 a.m., Tuesday, January 28, 2014

1. Introduction

2. Approval of the Agenda

3. Overview of the Council's Fisheries and Protected Species Issues

4. Review of Current and Future Fishery Management Measures

5. Committee Discussion on Current and Emerging Protected Species Issues Related to Fisheries Management

8:30 a.m., Wednesday, January 29, 2014

6. Council's Protected Species Program and Research Priority Planning

7. Other Business and Next Meeting

8. Public Comment

9. Committee Discussion and Recommendations

The order in which agenda items are addressed may change. The Committee will meet as late as necessary to complete scheduled business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 8, 2014.
Tracey L. Thompson,
Acting Deputy Director, Office of Sustainable Fisheries, National Marine Fisheries Service.

[FR Doc. 2014-00354 Filed 1-10-14; 8:45 am]

BILLING CODE 3510-22-P